DEPARTMENT OF TRANSPORTATION

Federal Aviation Administration

14 CFR Part 39

[Docket No. FAA-2008-0681; Directorate Identifier 2008-NE-13-AD; Amendment 39-15805; AD 2009-03-04]

RIN 2120-AA64

Airworthiness Directives; Turbomeca S.A. Models Arriel 1E2, 1S, and 1S1 Turboshaft Engines

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

Turbomeca S.A. has informed EASA of a case of a “red disk” plug that has been actually installed on an engine which has been subsequently released for service operation. This engine experienced an in-service high pressure leak event (at the fuel pump outlet) due to cracking of this “red disk” plug. This leak could lead to in-flight flame-out and/or possibly a fire.

We are issuing this AD to prevent fuel leaks, which could result in a fire and damage to the helicopter.

DATES: This AD becomes effective March 27, 2009. The Director of the Federal Register approved the incorporation by reference of certain publications listed in this AD as of March 27, 2009.

ADDRESSES: The Docket Operations office is located at Docket Management Facility, U.S. Department of Transportation, 1200 New Jersey Avenue, SE., West Building Ground Floor, Room W12-140, Washington, DC 20590-0001.

FOR FURTHER INFORMATION CONTACT: James Lawrence, Aerospace Engineer, Engine Certification Office, FAA, Engine and Propeller Directorate, 12 New England Executive Park, Burlington, MA 01803; e-mail: james.lawrence@faa.gov; telephone (781) 238-7176; fax (781) 238-7199.

SUPPLEMENTARY INFORMATION:

Discussion

We issued a notice of proposed rulemaking (NPRM) to amend 14 CFR part 39 to include an AD that would apply to the specified products. That NPRM was published in the Federal Register on June 25, 2008 (73 FR 35981). That NPRM proposed to correct an unsafe condition for the specified products. The MCAI states:

A plug adapted for engine bench testing (called “red disk” plug) and not approved for service operation, could inadvertently be installed on the engine Fuel Control Unit 3-way union, instead of the sealed plug approved for service operation.

Turbomeca S.A. has informed EASA of a case of a “red disk” plug that has been actually installed on an engine which has been subsequently released for service operation. This engine experienced an in-service high pressure leak event (at the fuel pump outlet) due to cracking of this “red disk” plug. This leak could lead to in-flight flame-out and/or possibly a fire.

Comments

We gave the public the opportunity to participate in developing this AD. We received no comments on the NPRM or on the determination of the cost to the public.

Conclusion

We reviewed the available data and determined that air safety and the public interest require adopting the AD as proposed.

Costs of Compliance

Based on the service information, we estimate that this AD will affect about 179 products installed on helicopters of U.S. registry. We also estimate that it will take about 0.5 work-hour per product to comply with this AD. The average labor rate is $80 per work-hour. Required parts will cost about $14 per product. Based on these figures, we estimate the cost of the AD on U.S. operators to be $9,666. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-03-04 Turbomeca S.A.: Amendment 39-15805. Docket No. FAA-2008-0681; Directorate Identifier 2008-NE-13-AD.

Effective Date

(a) This airworthiness directive (AD) becomes effective March 27, 2009.

Affected ADs

(b) None.

Applicability

(c) This AD applies to Turbomeca S.A. Models Arriel 1E2, 1S, and 1S1 turboshaft engines. These engines are installed on, but not limited to, Eurocopter Deutschland MBB-BK 117 series and Sikorsky S-76A series helicopters.

Reason

(d) Turbomeca S.A. has informed EASA of a case of a “red disk” plug that has been actually installed on an engine which has been subsequently released for service operation. This engine experienced an in-service high pressure leak event (at the fuel pump outlet) due to cracking of this “red disk” plug. This leak could lead to in-flight flame-out and/or possibly a fire.

We are issuing this AD to prevent fuel leaks, which could result in a fire and damage to the helicopter.

Actions and Compliance

(e) Unless already done, do the following actions.

(1) Within 100 operating hours from effective date of this AD, perform a one time inspection of the correct reference of the plug installed on the FCU 3-way union (9 932 30 706 0) and verify its torque to be set between 1.3 and 1.5 daN.m in accordance with Turbomeca Mandatory Service Bulletin 292 73 0817.

Other FAA AD Provisions

(f) Alternative Methods of Compliance (AMOCs): The Manager, Engine Certification Office, FAA, has the authority to approve AMOCs for this AD, if requested using the procedures found in 14 CFR 39.19.

Related Information

(g) Refer to MCAI EASA Airworthiness Directive 2008-0014, dated January 17, 2008, for related information.

(h) Contact James Lawrence, Aerospace Engineer, Engine Certification Office, FAA, Engine and Propeller Directorate, 12 New England Executive Park, Burlington, MA 01803; e-mail: james.lawrence@faa.gov; telephone (781) 238-7176; fax (781) 238-7199, for more information about this AD.

Material Incorporated by Reference

(i) You must use Turbomeca Mandatory Service Bulletin 292 73 0817, Version C, dated March 13, 2008 to do the actions required by this AD, unless the AD specifies otherwise.

(1) The Director of the Federal Register approved the incorporation by reference of this service information under 5 U.S.C. 552(a) and 1 CFR part 51.

(2) For service information identified in this AD, contact Turbomeca, 40220 Tarnos, France; telephone 33 (0)5 59 74 40 00; telex 570 042; fax 33 (0)5 59 74 45 15.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on January 21, 2009.
Peter A. White,
Assistant Manager, Engine and Propeller Directorate, Aircraft Certification Service.

[FR Doc. E9-3026 Filed 2-19-09; 8:45 am]

BILLING CODE 4910-13-P